FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012323-001.

Title: Hoegh/Hyundai Glovis Transatlantic Vessel Sharing Agreement.

Parties: Hoegh Autoliners AS and Hyundai Glovis Co. Ltd.

Filing Party: Wayne R. Rohde, Esq.; Cozen O'Connor; 1200 Nineteenth St. NW.; Washington, DC 20036.

Synopsis: The amendment adds Spain, Morocco, Guadeloupe, Martinique, Venezuela and Colombia to the geographic scope of the agreement, and corrects the address of Hyundai Glovis.

Agreement No.: 012327-002.

Title: “K” Line/WHL/WHS/PIL Space Charter and Sailing Agreement.

Parties: Kawasaki Kisen Kaisha, Ltd.; Wan Hai Lines (Singapore) PTE Ltd.; Wan Hai Lines Ltd.; Pacific International Lines (PTE) Ltd.

Filing Party: Eric. C. Jeffrey, Esq.; Nixon Peabody LLP; 799 9th Street NW., Suite 500; Washington, DC 20001.

Synopsis: The amendment updates language in the agreement concerning operational coordination with third parties using slots provided by a party under this agreement.

Agreement No.: 012361-001.

Title: ELJSA/CMA CGM North West European Continent—U.S. East Coast Service Slot Charter Agreement.

Parties: Evergreen Line Joint Service Agreement and CMA CGM S.A.

Filing Party: Paul M. Keane, Esq.; Cichanowicz, Callan, Keane, Vengrow & Textor, LLP; 61 Broadway, Suite 3000; New York, NY 10006-2802.

Synopsis: The amendment adds Article 5.9 to the agreement allowing CMA CGM to communicate directly with members of the CKYHE Agreement (FMC Agreement No. 012300) who are providing the vessel space which Evergreen is chartering to CMA CGM.

Agreement No.: 012373.

Title: NMCC/Hoegh Autoliners Space Charter Agreement.

Parties: Mitsui O.S.K. Lines, Ltd; Nissan Motor Car Carrier Co., Ltd.; World Logistics Service, (U.S.A.), Inc.; and Hoegh Autoliners AS.

Filing Party: Eric. C. Jeffrey, Esq.; Nixon Peabody LLP; 799 9th Street NW., Suite 500; Washington, DC 20001.

Synopsis: The agreement authorizes the parties to charter space to one another for the carriage of vehicles and other Ro-Ro cargo in the trades between the United States and countries in the Far East, Southeast Asia, the Indian Subcontinent, Northern Europe (including the United Kingdom and Ireland) and the Middle East and Mediterranean, excluding the trades from the United States East and Gulf Coasts to Bahrain and Oman.

Agreement No.: 012373-001.

Title: NMCC/Hoegh Autoliners Space Charter Agreement.

Parties: Mitsui O.S.K. Lines, Ltd; Nissan Motor Car Carrier Co., Ltd.; World Logistics Service, (U.S.A.), Inc.; and Hoegh Autoliners AS.

Filing Party: Eric. C. Jeffrey, Esq.; Nixon Peabody LLP; 799 9th Street NW., Suite 500; Washington, DC 20001.

Synopsis: The amendment would expand the geographic scope of the agreement to include the trades from the United States East and Gulf Coasts to Bahrain and Oman, and change the name of the agreement.

Agreement No.: 012374.

Title: Seaboard/Crowley Space Charter Agreement.

Parties: Crowley Caribbean Services, LLC and Seaboard Marine, Ltd.

Filing Party: Wayne R. Rohde, Esq.; Cozen O'Connor; 1200 19th Street NW., Washington, DC 20036.

Synopsis: The agreement would authorize Crowley to charter space to Seaboard in the trade from Port Everglades, FL to Jamaica.

Agreement No.: 012375.

Title: Hanjin/Zim Slot Exchange Agreement.

Parties: ZIM Integrated Shipping Services, Ltd. and Hanjin Shipping Co., Ltd.

Filing Party: Mark E. Newcomb; ZIM American Integrated Shipping Services Co., LLC; 5801 Lake Wright Dr.; Norfolk, VA 23508.

Synopsis: The agreement would authorize the parties to exchange slots on their respective services in the trade between ports in Asia and ports on the U.S. East Coast.

Agreement No.: 201161-001.

Title: AMPT/Maher Cooperative Working Agreement.

Parties: APM Terminals North America, Inc.; Maher Terminals, Inc.; and Millennium Marine Rail LLC.

Filing Party: Wayne R. Rohde, Esq.; Cozen O'Conner; 1200 19th Street NW.; Washington, DC 20036.

Synopsis: The amendment would reflect the fact that Maher has restructured itself as an LLC, and that APMT has placed its terminal operations in a wholly-owned subsidiary. It would also correct the addresses of the parties to the agreement.

By Order of the Federal Maritime Commission.
Dated: November 20, 2015.
Rachel E. Dickon,
Assistant Secretary.

[FR Doc. 2015-30036 Filed 11-24-15; 8:45 am]

BILLING CODE 6731-AA-P